DEPARTMENT OF DEFENSE

Office of the Secretary

[Docket ID: DoD-2012-OS-0004]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 16, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity (DoDEA), ATTN: Dr. Sandra Embler, Alexandria, VA 22305, or call DoDEA Research and Evaluation Branch at 571-372-6006.

SUPPLEMENTARY INFORMATION: Title; Associated Form; and OMB Number: Department of Defense Education Activity (DoDEA) School Perception Surveys; OMB Control Number 0704-TBD.

Needs and Uses: The information collection requirement is necessary to measure the satisfaction level of sponsors and students with the programs and services provided by DoDEA. This collection is necessary to measure school environment within Goal 2 of the DoDEA Community Strategic Plan (SY2013-14-2017/18), which states that DoDEA will “Develop and sustain each school to be high-performing with an environment of innovation, collaboration, continuous renewal and caring relationships.” The surveys are also necessary to measure perceptions of teacher quality within Goal 3 of the DoDEA Community Strategic Plan which states that DoDEA will “Recruit, develop, and empower a diverse high-performing team to maximize achievement for each student.”

Affected Public: Individuals or households.

Annual Burden Hours: 1,152.

Number of Respondents: 3,457.

Responses per Respondent: 1.

Total Annual Responses: 3,457.

Average Burden per Response: 20 minutes.

Frequency: On Occasion.

The Department of Defense Education Activity (DoDEA) School Perception Surveys for sponsors and students will be administered to all parents of students attending a DoDEA school, as well as students in grades 3-12. Participation in the surveys is completely voluntary and will be administered via an online, web-based portal. The questions will provide all stakeholders with the opportunity to provide input on their satisfaction with their child's school or with their school, to include perceptions of instruction, technology use, school environment, safety, and communication.

The results of the surveys will be used at all levels of the organization to improve programs and services offered to DoDEA's students. The survey results will also be used as an outcome measure to monitor progress on the goals of DoDEA's Community Strategic Plan.

Dated: April 10, 2014.
Aaron Siegel,
Alternate OSD Federal Register Liaison Officer, Department of Defense.

[FR Doc. 2014-08503 Filed 4-14-14; 8:45 am]

BILLING CODE 5001-06-P